DEPARTMENT OF AGRICULTURE

Forest Service

Notice of Proposed New Fee Sites; Federal Lands Recreation Enhancement Act, (Title VIII, Pub. L. 108-447)

AGENCY: Ashley National Forest, USDA Forest Service.

ACTION: Notice of Proposed New Fee Site.

SUMMARY: The Ashley National Forest is proposing to offer several Guard Stations (cabins) and associated facilities as recreation rentals. Fees are assessed based on the level of amenities and services provided, cost of operations and maintenance, market assessment, price consistency throughout Forest and public comment. The fees are proposed and will be determined upon further analysis and public comment. Funds from fees would be used for the continued operation and maintenance of these structures.

The cabins and proposed summer rental prices are Rock Creek Administrative Cabin for $100.00 per night, Moon Lake Guard Station for $60.00 per night, and Yellowstone Guard Station and Bunkhouse for $80.00 per night. Rock Creek will also be available in the winter.

These cabins are no longer needed for administrative purposes, and are proposed to be put in service in the Forest Service Cabin Rental Program. The cabins will help meet the demand for rentals in remote areas, and fees collected will help to maintain the structures into the future.

An analysis of each cabin's features show that the proposed fees are reasonable and typical of similar sites in the area.

DATES: Comments will be accepted through September 30, 2014. New fees would begin May 2015.

ADDRESSES: John Erickson, Forest Supervisor, Ashley National Forest, 335 North Vernal Avenue, Vernal, Utah 84078.

FOR FURTHER INFORMATION CONTACT: Kathy Paulin, 435-789-5160. Information about proposed fee changes can also be found on the Intermountain Region Web site: http://www.fs.fed.us/r4/recreation/rac/index.shtml.

SUPPLEMENTARY INFORMATION: The Federal Recreation Lands Enhancement Act (Title VII, Pub. L. 108-447) directed the Secretary of Agriculture to publish a six month advance notice in the Federal Register whenever new recreation fee areas are established.

Once public involvement is complete, these new fees will be reviewed by a Recreation Resource Advisory Committee prior to a final decision and implementation.

Dated: June 24, 2014.
Scott R. Bingham,
Acting Forest Supervisor.

[FR Doc. 2014-15602 Filed 7-2-14; 8:45 am]

BILLING CODE 3410-11-P